DEPARTMENT OF JUSTICE

Notice of Lodging of Consent Decree Pursuant to the Comprehensive Environmental Response, Compensation, and Liability Act

In accordance with Departmental policy, 28 CFR 50.7, notice is hereby given that a proposed consent decree in United States v. Mary Jane Anderson, et al., Civil Action No. C03-5107RBL was lodged on February 26, 2003, with the United States District Court for the Western District of Washington. The Consent Decree resolves claims by the United States under the Act, as amended, (“CERCLA”), 42 U.S.C. 9601, et seq., for recovery of past and future response costs from twenty-six parties consisting of companies, individuals and local government agencies associated with the Hylebos Waterway Problem Areas within the Commencement Bay/Nearshore Tideflats Superfund Site (“CB/NT Site”) as identified in the Record of Decision for Operable Unit 01 of the CB/NT Site. The proposed Consent Decree also would resolve potential counterclaims by private parties against five federal agencies for contribution under CERCLA section 113. This consent decree requires the settling parties to pay a total of $15,435,752 to reimburse the United States for costs incurred and to be incurred at the Hylebos Waterway Problem Areas of the CB/NT Site.

The Department of Justice will receive, for a period of thirty (30) days from the date of this publication, comments relating to the proposed consent decree. Comments should be addressed to the Assistant Attorney General, Environmental and Natural Resources Division, P.O. Box 7611, U.S. Department of Justice, Washington, DC 20044-7611, and should refer to United States v. Mary Jane Anderson, et al., DOJ Ref. #90-11-3-07865.

The proposed consent decree may be examined at the office of the United States Attorney, 601 Union Street, Suite 5100, Seattle, WA 98101 and at U.S. EPA Region 10, 1200 Sixth Avenue, Seattle, WA 98101. During the comment period, the consent decree may be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $16.75 (with attachments) or $15.00 (without attachments) for United States v. Mary Jane Anderson, et al., (25 cents per page reproduction cost) payable to the U.S. Treasury.

Robert Maher,
Assistant Section Chief, Environmental Enforcement Section.

[FR Doc. 03-5754 Filed 3-10-03; 8:45 am]

BILLING CODE 4410-15-M